SMALL BUSINESS ADMINISTRATION

13 CFR Part 125

RIN 3245-AF12

Small Business Government Contracting Programs; Subcontracting

AGENCY: U.S. Small Business Administration.

ACTION: Final rule; delay of effective date.

SUMMARY: The U.S. Small Business Administration (SBA or Agency) delays the effective date of the final rule published in the Federal Register on December 20, 2004, which generally relates to evaluation of prime contractor's performance and authorized factors in source selection when placing orders against Federal Supply Schedules, government-wide acquisition contracts, and multi-agency contracts, as corrected by the document published in the Federal Register on January 10, 2005, until March 14, 2005.

DATES: The final rule published on December 20, 2004 (69 FR 75820) has been classified as a major rule subject to congressional review. The effective date, which was corrected from December 20, 2004, to February 18, 2005 on January 10, 2005 (70 FR 1655), is further delayed to March 14, 2005 (60 days after the date on which Congress received the rule). However, at the conclusion of congressional review, if the effective date has been changed, SBA will publish a document in the Federal Register to establish the actual effective date or to terminate the rule.

FOR FURTHER INFORMATION CONTACT: Dean Koppel, Assistant Administrator, Office of Policy and Research, (202) 401-8150, or dean.koppel@sba.gov.

SUPPLEMENTARY INFORMATION: On December 20, 2004, SBA published in the Federal Register a final rule which, among other things, issued a list of factors for Federal agencies to consider in evaluating a prime contractor's performance and good faith efforts to achieve the requirements in its subcontracting plan, and authorized the use of goals in subcontracting plans, and/or past performance in meeting such goals, as a factor in source selection when placing orders against Federal Supply Schedules, government-wide acquisition contracts, and multi-agency contracts (69 FR 75820). The document incorrectly stated that the final rule was effective on December 20, 2004. The document did not put the public on notice that the final rule had been designated as a major rule under the Congressional Review Act (CRA), which generally requires that the effective date for major final rules to be at least 60 days from the date of publication in the Federal Register, or from the date both Houses of Congress receive it, whichever is later.

On January 10, 2005, SBA published in the Federal Register a correction to the final rule to put the public on notice that the final rule had been designated as a major rule under the CRA (70 FR 1655). The correction also stated that the effective date for the final rule was February 18, 2005, which was 60 days after the publication of the final rule in the Federal Register. When SBA published the correction, the Agency assumed that Congress had received the final rule before its publication in the Federal Register. However, Congress received the final rule on January 11, 2005. Because the CRA requires the effective date for major final rules to be at least 60 days after publication or congressional receipt, whichever is later, and because congressional receipt was the later of the dates, SBA is delaying the effective date of the final rule until March 14, 2005.

Dated: January 25, 2005.
Allegra F. McCullough,
Associate Deputy Administrator for Government Contracting and Business Development.

[FR Doc. 05-1777 Filed 2-2-05; 8:45 am]

BILLING CODE 8025-01-P